DEPARTMENT OF ENERGY

Office of Energy Efficiency and Renewable Energy

Interagency Management Task Force Public Meeting

AGENCY: Office of Energy Efficiency and Renewable Energy, Department of Energy (DOE).

ACTION: Notice of public meeting.

SUMMARY: The Federal Energy Management Program (FEMP) will hold public meetings of the Interagency Energy Management Task Force (Task Force) in 2011. FEMP intends to hold recurring public meetings of the Task Force. Interested parties can check http://www.femp.energy.gov/news/events.html for the time, location, agenda, and related materials of the meetings. The purpose of the town hall meetings is to provide information on current Federal energy management activities.

FOR FURTHER INFORMATION CONTACT: Hayes Jones, Federal Energy Management Program; EE-2L; 1000 Independence Ave., SW.; Washington, DC 20585; (202) 586-8873. More information on DOE's Federal Energy Management Program can be found at http://www.femp.energy.gov.

SUPPLEMENTARY INFORMATION: The Federal Energy Management Program (FEMP), within the Department of Energy's Office of Energy Efficiency and Renewable Energy, facilitates the Federal Government's implementation of sound, cost-effective energy management and investment practices to enhance the nation's energy security and environmental stewardship. In support of this goal, the FEMP Program Manager chairs the Interagency Task Force (Task Force). The Task Force was created by the Federal Energy Management Improvement Act of 1988 (Pub. L. 100-615) to coordinate the activities of the Federal Government in promoting energy conservation and the efficient use of energy and in informing non-Federal entities of the Federal experience in energy conservation. The Task Force is composed of Federal energy managers. The purpose of these public Town Hall meetings is to present information related to Federal energy management and reporting requirements. The meetings may also present an opportunity for public comment on activities related to Federal energy management. The Task Force establishes working groups to address specific technical or programmatic issues and to develop new initiatives. It also serves as a forum for sharing lessons learned across Federal agencies.

Issued in Washington, DC, on April 12, 2011.
Jerry Dion,
Supervisor, Federal Market Development, Federal Energy Management Program, Office of Energy Efficiency and Renewable Energy.

[FR Doc. 2011-9830 Filed 4-21-11; 8:45 am]

BILLING CODE 6450-01-P